NUCLEAR REGULATORY COMMISSION

[Docket Nos. 50-313, 368, 416, 003, 247, 286, 333, 293, 458, 271, and 382]

Entergy Operations, Inc., Entergy Nuclear Operations, Inc., Arkansas Nuclear One, Units 1 and 2; Grand Gulf Nuclear Station; Indian Point Nuclear Station, Units 1, 2 and 3; James A. Fitzpatrick Nuclear Power Plant; Pilgrim Nuclear Power Station; River Bend Station; Vermont Yankee Nuclear Power Plant; and Waterford Steam Electric Station, Unit 3; Environmental Assessment and Finding of No Significant Impact

The U.S. Nuclear Regulatory Commission (NRC) is considering issuance of exemptions from Title 10 of the Code of Federal Regulations (10 CFR) part 20, section 20.1003 for Renewed Facility Operating License No. DPR-51; Facility Operating License Nos. NPF-6 and NPF-29; Provisional Operating License No. DPR-5; and Facility Operating License Nos. DPR-26, DPR-64, DPR-59, DPR-35, NPF-47, DPR-28, and NPF-38; issued to Entergy Operations, Inc. and Entergy Nuclear Operations, Inc. (the licensees), for operation of Arkansas Nuclear One, Units 1 and 2; Grand Gulf Nuclear Station; Indian Point Nuclear Station, Units 1, 2 and 3; James A. Fitzpatrick Nuclear Power Plant; Pilgrim Nuclear Power Station; River Bend Station; Vermont Yankee Nuclear Power Plant; and Waterford Steam Electric Station, Unit 3, located in Pope County, Arkansas; Claiborne County, Mississippi; Westchester County, New York; Oswego County, New York; Plymouth County, Massachusetts; West Felciana Parish, Louisiana; Windham County, Vermont; and Saint Charles Parish, Louisiana. (The operating authority of Provisional Operating License No. DPR-5 for Indian Point Nuclear Station, Unit 1, was revoked by Commission Order dated June 19, 1980). Therefore, as required by 10 CFR 51.21, the NRC is issuing this environmental assessment and finding of no significant impact.

Environmental Assessment

Identification of the Proposed Action

The proposed action would provide an exemption from the 10 CFR 20.1003 definition of total effective dose equivalent (TEDE), which is the sum of the deep-dose equivalent (for external exposures) and the committed effective dose equivalent (for internal exposures). The proposed exemption would change the definition of TEDE to mean the sum of the effective dose equivalent or the deep-dose equivalent (for external exposures) and the committed effective dose equivalent (for internal exposures).

The proposed action is in accordance with the licensee's application dated July 20, 2001, as supplemented by letter dated June 13, 2002.

The Need for the Proposed Action

The proposed action is needed because the current method of calculating TEDE, under certain conditions, can significantly overestimate the dose received.

Environmental Impacts of the Proposed Action

The NRC has completed its evaluation of the proposed action and concludes that revising the methodology for calculating the dose received by individuals will not have any environmental impacts.

The proposed action will not significantly increase the probability or consequences of accidents, no changes are being made in the types of effluents that may be released off site, and there is no significant increase in occupational or public radiation exposure. Therefore, there are no significant radiological environmental impacts associated with the proposed action.

With regard to potential nonradiological impacts, the proposed action does not have a potential to affect any historic sites. It does not affect nonradiological plant effluents and has no other environmental impact. Therefore, there are no significant nonradiological environmental impacts associated with the proposed action.

Accordingly, the NRC concludes that there are no significant environmental impacts associated with the proposed action.

Environmental Impacts of the Alternatives to the Proposed Action

As an alternative to the proposed action, the staff considered denial of the proposed action (i.e., the “no-action” alternative). Denial of the application would result in no change in current environmental impacts. The environmental impacts of the proposed action and the alternative action are similar.

Alternative Use of Resources

This action does not involve the use of any different resources than those previously considered in: the Final Environmental Statement (FES) related to the operation of Arkansas Nuclear One, Unit 1, dated February 1973, and the Final Supplemental Environmental Impact Statement regarding Arkansas Nuclear One, Unit 1 (NUREG-1437, Supplement 3), dated April 2001; the FES related to the operation of Arkansas Nuclear One, Unit 2, dated June 1977; the FES related to the operation of Grand Gulf Nuclear Station, dated September 1981; previous reviews of Indian Point Nuclear Station, Unit 1, or the Final Generic Environmental Impact Statement on decommissioning of nuclear facilities, dated August 1988; the FES related to the operation of Indian Point Nuclear Station, Unit 2, dated September 1972; the FES related to the operation of Indian Point Nuclear Station, Unit 3, dated February 1975; the FES related to the operation of the James A. FitzPatrick Nuclear Power Plant, dated March 1973; the FES related to the operation of the Pilgrim Nuclear Power Station, dated May 1972; the FES related to the operation of the River Bend Station, dated January 1985; the FES related to the operation of the Vermont Yankee Nuclear Power Plant, dated July 1972; and the FES related to the operation of the Waterford Steam Electric Station, Unit 3, dated January 1985.

Agencies and Persons Consulted

On August 14, 2002, the staff consulted with the Arkansas State official, Bernie Bevill of the Arkansas Department of Health, regarding the environmental impact of the proposed action. On August 16, 2002, the staff consulted with the Mississippi State official, Silas Anderson, of the Mississippi Department of Health, regarding the environmental impact of the proposed action. On August 13, 2002, the staff consulted with the New York State official, Alyse Peterson of the New York State Energy Research and Development Authority, regarding the environmental impact of the proposed action. On August 28, 2002, the staff consulted with the Massachusetts State official, James Muckerheide of the Massachusetts Emergency Management Agency, regarding the environmental impact of the proposed action. On August 13, 2002, the staff consulted with the Louisiana State official, Nan Calhoun of the Louisiana Department of Environmental Quality, regarding the environmental impact of the proposed action. On August 15, 2002, the staff consulted with the Vermont State official, William Sherman of the Department of Public Service, regarding the environmental impact of the proposed action. The State officials had no comments.

Finding of No Significant Impact

On the basis of the environmental assessment, the NRC concludes that the proposed action will not have a significant effect on the quality of the human environment. Accordingly, the NRC has determined not to prepare an environmental impact statement for the proposed action.

For further details with respect to the proposed action, see the licensee's letter dated July 20, 2001, as supplemented by letter dated June 13, 2002. Documents may be examined, and/or copied for a fee, at the NRC's Public Document Room (PDR), located at One White Flint North, 11555 Rockville Pike (first floor), Rockville, Maryland. Publicly available records will be accessible electronically from the Agencywide Documents Access and Management System (ADAMS) Public Electronic Reading Room on the internet at the NRC Web site, http://www.nrc.gov/reading-rm/adams.html. Persons who do not have access to ADAMS or who encounter problems in accessing the documents located in ADAMS, should contact the NRC PDR Reference staff by telephone at 1-800-397-4209 or 301-415-4737, or by e-mail to pdr@nrc.gov.

Dated at Rockville, Maryland, this 28th day of August, 2002.
For the Nuclear Regulatory Commission.
Robert A. Gramm,
Chief, Section 1, Project Directorate IV, Division of Licensing Project Management, Office of Nuclear Reactor Regulation.

[FR Doc. 02-22491 Filed 9-3-02; 8:45 am]

BILLING CODE 7590-01-P